DEPARTMENT OF THE TREASURY

Internal Revenue Service

26 CFR Part 1

[REG-113289-08]

RIN 1545-BH81

Contingent Fees Under Circular 230; Hearing Cancellation

AGENCY: Internal Revenue Service (IRS), Treasury.

ACTION: Cancellation of notice of public hearing.

SUMMARY: This document cancels a public hearing on notice of proposed rulemaking on modifications of the regulations governing practice before the Internal Revenue Service (Circular 230).

DATES: The public hearing, originally scheduled for November 20, 2009 at 10 a.m. is cancelled.

FOR FURTHER INFORMATION CONTACT: Regina Johnson of the Publications and Regulations Branch, Legal Processing Division, Associate Chief Counsel (Procedure and Administration) at (202) 622-7180 (not a toll-free number).

SUPPLEMENTARY INFORMATION: A notice of proposed rulemaking and a notice of public hearing that appeared in the Federal Register on Tuesday, July 28, 2009 (74 FR 37183) announced that a public hearing was scheduled for November 20, 2009, at 10 a.m. in the IRS Auditorium, Internal Revenue Building, 1111 Constitution Avenue, NW., Washington, DC. The subject of the public hearing is under Circular 230 of the Internal Revenue Code.

The public comment period for these regulations expired on September 10, 2009. Outlines of topics to be discussed at the hearing were due on September 10, 2009. The notice of proposed rulemaking and notice of public hearing instructed those interested in testifying at the public hearing to submit a request to speak, and an outline of the topics to be addressed. As of Monday, September 21, 2009, no one has requested to speak. Therefore, the public hearing scheduled for November 20, 2009, is cancelled.

LaNita VanDyke,
Branch Chief, Publications and Regulations Branch, Legal Processing Division, Associate Chief Counsel, (Procedure and Administration).

[FR Doc. E9-23159 Filed 9-24-09; 8:45 am]

BILLING CODE 4830-01-P